ENVIRONMENTAL PROTECTION AGENCY

40 CFR Part 81

[NV-032-FON; FRL-6905-6]

Clean Air Act Reclassification; Nevada—Reno Planning Area; Particulate Matter of 10 Microns or Less (PM-10)

AGENCY: Environmental Protection Agency (EPA).

ACTION: Proposed rule.

SUMMARY: In this action EPA proposes to find that the Reno (Washoe County) Planning Area (RPA) has not attained the PM-10 national ambient air quality standards (NAAQS) by the Clean Air Act (CAA) mandated attainment date for moderate nonattainment areas. Section 188(c)(1) of the Act established an attainment date of no later than December 31, 1994 for areas classified as moderate nonattainment areas under section 107(d)(4)(B) of the CAA. This proposed finding is based on monitored air quality data for the PM-10 NAAQS during the years 1992-1994. If EPA takes final action on this proposed finding, the RPA will be reclassified by operation of law as a serious nonattainment area under section 188(b)(2)(A) of the CAA.

DATES: Comments on this proposed finding must be received in writing by December 7, 2000.

ADDRESSES: Comments should be addressed to Manny Aquitania, U.S. Environmental Protection Agency, Region 9, Air Division, Planning Office (AIR-2), 75 Hawthorne Street, San Francisco, California 94105.

FOR FURTHER INFORMATION CONTACT: For monitoring data questions contact Manny Aquitania, U.S. EPA, Region 9, Air Division, Technical Support Office (AIR-7), 75 Hawthorne Street, San Francisco, California 94105; (415) 744-1299, aquitania.manny@epa.gov. For other questions contact Doris Lo, U.S. Environmental Protection Agency, Region 9, Air Division, Planning Office (AIR-2), 75 Hawthorne Street, San Francisco, California 94105, (415) 744-1287, lo.doris@epa.gov.

SUPPLEMENTARY INFORMATION:

I. Background

A. CAA Requirements and EPA Actions Concerning Designation and Classification

On November 15, 1990, the date of enactment of the 1990 Clean Air Act Amendments, PM-10 areas meeting the qualifications of section 107(d)(4)(B) of the Act were designated nonattainment by operation of law. Once an area is designated nonattainment, section 188 of the Act outlines the process for classification of the area and establishes the area's attainment date. Pursuant to section 188(a), all PM-10 nonattainment areas were initially classified as moderate by operation of law upon designation as nonattainment. These nonattainment designations and moderate area classifications were codified in 40 CFR part 81 in a Federal Register notice published on November 6, 1991 (56 FR 56694). The Reno Planning Area (RPA) was designated nonattainment and classified as moderate. See 40 CFR 81.329.

States containing areas which were designated as moderate nonattainment by operation of law under section 107(d)(4)(B) were to develop and submit state implementation plans (SIPs) to provide for the attainment of the PM-10 NAAQS. Pursuant to section 189(a)(2), those SIP revisions were to be submitted to EPA by November 15, 1991.

B. Reclassification as Serious Nonattainment

EPA has the responsibility, pursuant to sections 179(c) and 188(b)(2) of the Act, of determining within 6 months of the applicable attainment date, whether PM-10 nonattainment areas have attained the NAAQS. Section 179(c)(1) of the Act provides that these determinations are to be based upon an area's “air quality as of the attainment date”, and section 188(b)(2) is consistent with this requirement. EPA makes the determinations of whether an area's air quality is meeting the PM-10 NAAQS based upon air quality data gathered at monitoring sites in the nonattainment area. These data are reviewed to determine the area's air quality status in accordance with EPA guidance at 40 CFR part 50, appendix K.

Pursuant to appendix K, attainment of the annual PM-10 standard is achieved when the annual arithmetic mean PM-10 concentration is equal to or less than 50 μg/m3. Attainment of the 24-hour standard is determined by calculating the expected number of exceedances of the 150 μg/m3 limit per year. The 24-hour standard is attained when the expected number of exceedances is 1.0 or less. A total of 3 consecutive years of clean air quality data is generally necessary to show attainment of the 24-hour and annual standards for PM-10. A complete year of air quality data, as referred to in 40 CFR part 50, appendix K, is comprised of all 4 calendar quarters with each quarter containing data from at least 75 percent of the scheduled sampling days.

Under section 188(b)(2)(A), a moderate PM-10 nonattainment area must be reclassified as serious by operation of law after the statutory attainment date if the Administrator finds that the area has failed to attain the NAAQS. Pursuant to section 188(b)(2)(B) of the Act, EPA must publish a notice in the Federal Register identifying those areas that failed to attain the standard and the resulting reclassifications.

II. Today's Action

EPA is, by today's action, proposing to find that the RPA did not attain either the 24-hour or annual PM-10 NAAQS by the required attainment date of December 31, 1994. As discussed below, this proposed finding is based upon air quality data which revealed violations of the PM-10 NAAQS during 1992-1994.¹

¹ The RPA is also not currently attaining the PM-10 NAAQS. A summary of more recent air quality data can be found in the docket.

A. Ambient Air Monitoring Data

The following table lists each of the monitoring sites in the RPA where the 24-hour and annual PM-10 NAAQS were violated during 1992-1994:

² All violating PM-10 samplers in RPA operated on a 1-in-6 day sampling schedule. Since sampling is not performed every day, any exceedance of the 24-hour NAAQS is adjusted such that the exceedance is now considered a violation. The procedures for calculating the number of violations is specified in 40 CFR part 50, appendix K.

Sites Violating PM-10 NAAQS ²
Site | 24-hour exceedances (micrograms per cubic meter, μg/m³): Concentration | 24-hour exceedances (micrograms per cubic meter, μg/m³): Date | Annual averages (micrograms per cubic meter): 1992 | Annual averages (micrograms per cubic meter): 1993 | Annual averages (micrograms per cubic meter): 1994
Reno—N. Lake St. | 167 48 μg/m³ | 1/25/93
Reno—Galetti Way |  |  | 48 μg/m³ | 55 μg/m³ | 52 μg/m³

The Reno—N. Lake St. monitoring site in the RPA violated the 24-hour PM-10 NAAQS during 1992-1994. This site recorded a concentration of 167 micrograms per cubic meter on January 25, 1993.

The Reno—N. Lake St. monitoring site operates on a one-in-six day sampling schedule. Generally, if PM-10 sampling is scheduled less than every day, EPA requires the adjustment of observed exceedances to account for incomplete sampling. In the case of the Reno—N. Lake St. site, one exceedance of the 24-hour NAAQS was observed in 1993. After adjusting for incomplete sampling, the number of exceedances of the NAAQS in 1993 at this site was 6.4.

According to 40 CFR part 50, the 24-hour NAAQS is attained when the expected number of days per calendar year with a 24-hour average concentration above 150 μg/m³ is equal to or less than one. In the simplest case, the number of expected exceedances at a site is determined by recording the number of exceedances in each calendar year and then averaging them over the past three calendar years. Therefore from 1992-1994, the number of expected exceedances at the the Reno—N. Lake St. monitoring site was 2.1. This exceedance causes the Reno—N. Lake St. site to be in violation of the 24-hour PM-10 NAAQS.

In addition, the annual PM-10 NAAQS was violated at the Reno—Galetti Way site in RPA. Based on the monitoring data collected during 1992-1994, the Reno—Galetti site had an annual average of 52 μg/m³.

B. SIP Requirements for Serious Areas

PM-10 nonattainment areas reclassified as serious under section 188(b)(2) of the CAA are required to submit, within 18 months of the area's reclassification, SIP revisions providing for the implementation of best available control measures (BACM) no later than four years from the date of reclassification. The SIP also must contain, among other things, a demonstration that the implementation of BACM will provide for attainment of the PM-10 NAAQS no later than December 31, 2001.³ See CAA sections 188(c)(2) and 189(b). EPA has provided specific guidance on developing serious area PM-10 SIP revisions in an addendum to the General Preamble to Title I of the Clean Air Act. See 59 FR 41998 (August 16, 1994).

³ If certain conditions are met, EPA may extend this attainment deadline to no later than December 31, 2006. CAA section 188(e).

III. Request for Public Comment

The EPA is requesting comment on all aspects of today's proposal. As indicated at the outset of this notice, EPA will consider any comments received by December 7, 2000.

IV. Administrative Requirements

Under Executive Order 12866 (58 FR 51735, October 4, 1993), this proposed action is not a “significant regulatory action” and therefore is not subject to review by the Office of Management and Budget.

Under section 188(b)(2) of the CAA, findings of failure to attain is based solely upon air quality considerations and the subsequent nonattainment area reclassification must occur by operation of law in light of those air quality conditions. These actions do not, in-and-of themselves, impose any new requirements on any sectors of the economy. In addition, because the statutory requirements are clearly defined with respect to the differently classified areas, and because those requirements are automatically triggered by classifications that, in turn, are triggered by air quality values, findings of failure to attain and reclassification cannot be said to impose a materially adverse impact on State, local, or tribal governments or communities.

Accordingly, the Administrator certifies that this proposed rule will not have a significant economic impact on a substantial number of small entities under the Regulatory Flexibility Act (5 U.S.C. 601 et seq.).

Similarly, because the proposed finding of failure to attain is a factual determination based on air quality considerations and the resulting reclassification must occur by operation of law and, do not impose any federal intergovernmental mandate, these actions do not contain any unfunded mandate or significantly or uniquely affect small governments, as described in the Unfunded Mandates Reform Act of 1995 (Public Law 104-4). For the same reason, this proposed rule also does not significantly or uniquely affect the communities of Indian tribal governments, as specified by Executive Order 13084 (63 FR 27655, May 10, 1998).

For the same reasons, this proposed finding of failure to attain and resulting reclassification will not have substantial direct effects on the States, on the relationship between the national government and the States, or on the distribution of power and responsibilities among the various levels of government, as specified in Executive Order 13132 (64 FR 43255, August 10, 1999). These proposed actions are also not subject to Executive Order 13045 (62 FR 19885, April 23, 1997), because they are not economically significant. Finally, for the same reason that this proposed finding of failure to attain is a factual determination based on air quality considerations and the resulting reclassification must occur by operation of law, the requirements of section 12(d) of the National Technology Transfer and Advancement Act of 1995 (15 U.S.C. 272 note) do not apply.

As required by section 3 of Executive Order 12988 (61 FR 4729, February 7, 1996), in issuing this proposed finding of failure to attain, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings'' issued under the executive order. This proposed finding of failure to attain does not impose an information collection burden under the provisions of the Paperwork Reduction Act of 1995 (44 U.S.C. 3501 et seq.).

List of Subjects in 40 CFR Part 81

Environmental protection, Air pollution control, National parks, Wilderness areas.

Authority: 42 U.S.C. 7401-7671q.

Dated: November 13, 2000.
Felicia Marcus,
Regional Administrator, Region 9.

[FR Doc. 00-29879 Filed 11-21-00; 8:45 am]

BILLING CODE 6560-50-P